DEPARTMENT OF ENERGY

Federal Energy Regulatory Commission

[Docket No. RP00-244-000]

Sumas International Pipeline Inc.; Notice of Proposed Changes in FERC Gas Tariff

April 13, 2000.

Take notice that on April 10, 2000, Sumas International Pipeline Inc. (SIPI), tendered for filing as part of its FERC Gas Tariff, Original Volume No. 2, the following tariff sheets to become effective May 1, 2000:

Second Revised Sheet Number 10

Second Revised Sheet Number 11

Original Sheet Number 11A

Second Revised Sheet Number 12

First Revised Sheet Number 12A

Third Revised Sheet Number 13

First Revised Sheet Number 13A

First Revised Sheet Number 13B

First Revised Sheet Number 13C

Original Sheet Number 13D

Original Sheet Number 13E

Original Sheet Number 13F

First Revised Sheet Number 16A

First Revised Sheet Number 21A

SIPI asserts that the purpose of this filing is to comply with Order No. 587 issued on July 17, 1996 in general, and in particular Order Nos. 587-G, 587-H and 487-K, and the Notice Clarifying Procedures for Filing Tariff Sheets issued on September 12, 1996, in Docket No. RM96-1-000. These pro-forma sheets reflect the requirement that interstate natural gas pipelines follow standardized procedures for critical business practices (nominations; allocations, balancing and measurement; involving; and capacity release) and standardized protocols and file formats for electronic communication except where waivers have been granted.

SIPI states that copies of this filing were mailed to all customers of SIPI and Interested Parties.

Any person desiring to be heard or to protest said filing should file a motion to intervene or a protest with the Federal Energy Regulatory Commission, 888 First Street, NE, Washington, DC 20426, in accordance with sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-9768 Filed 4-18-00; 8:45 am]

BILLING CODE 6717-01-M